DEPARTMENT OF ENERGY

Federal Energy Regulatory Commission

[Project No. 362-004]

Notice of Scoping Meetings and Site Visit and Solicitation of Scoping Comments

June 13, 2002.

Take notice that the following hydroelectric application has been filed with Commission and are available for public inspection:

a. Type of Application: New Major License.

b. Project No.: 362-004.

c. Date filed: June 1, 2001.

d. Applicant: Ford Motor Company.

e. Name of Project: Ford Hydroelectric Project.

f. Location: On the Mississippi River, in the city of St. Paul, Ramsey County, Minnesota, at the U.S. Army Corps of Engineers' Lock and Dam No.1. The project is partially located on federal lands administered by the U.S. Army Corps of Engineers.

g. Filed Pursuant to: Federal Power Act 16 U.S.C. § 791 (a)-825(r).

h. Applicant Contact: George Waldow, HDR Engineering, Inc., 6190 Golden Hills Drive, Minneapolis, Minnesota 55416, or telephone (763) 591-5485.

i. FERC Contact: Sergiu Serban, E-mail address sergiu.serban@ferc.fed.us, or telephone (202) 501-6935.

j. Deadline for filing scoping comments: July 29, 2002.

All documents (original and eight copies) should be filed with: Magalie R. Salas, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. See 18 CFR 385.2001(a)(1)(iii) and the instructions on the Commission's web site (http://www.ferc.gov) under the “e-Filing” link.

k. This application is not ready for environmental analysis at this time.

l. Description of the Project: The proposed project would utilize the U.S. Army Corps of Engineers' Lock and Dam No. 1 and would consist of the following facilities: (1) An existing powerhouse integral with the dam having a total installed capacity of 18,000 kilowatts; and (2) appurtenant facilities. The average annual generation is estimated to be 97 gigawatt hours.

m. A copy of the application is on file with the Commission and is available for public inspection. This filing may also be viewed on the web at http://www.ferc.gov using the “RIMS” link—select “Docket #” and follow the instructions (call 202-208-2222 for assistance). A copy is also available for inspection and reproduction at the address in item g above.

n. Scoping Process

The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Agency Scoping Meeting

Date: Friday, June 28, 2002

Time: 9:30 a.m. to 12:00 p.m.

Place: Ford Motor Company's Twin Cities Assembly Plant UAW-MNSCU Training Center

Address: 966 Mississippi River Boulevard South St. Paul, Minnesota

Public Scoping Meeting

Date: Thursday, June 27, 2002

Time: 7:00 p.m. to 9:00 p.m.

Place: Same location as for the Agency Meeting

Address: Same address as for the Agency Meeting

Copies of the Scoping Document (SD1) outlining the subject areas to be addressed in the EA were distributed to the parties on the Commission's mailing list. Copies of the SD1 will be available at the scoping meeting or may be viewed on the web at http://www.ferc.gov using the “RIMS” link, select “Docket #” and follow the instructions (call 202-208-2222 for assistance).

Site Visit

The Applicant and FERC staff will conduct a site visit of the project on June 27, 2002, between 8 a.m. and 10 a.m. All interested individuals, organizations, and agencies are invited to attend. All participants should meet inside of the Training Center for a short overview of the hydro operations and safety instructions. Participants in the site visit will need to provide their own transportation and bring their own lunch. All participants are responsible for their own transportation to the site.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Linwood A. Watson, Jr.,
Deputy Secretary.

[FR Doc. 02-15402 Filed 6-18-02; 8:45 am]

BILLING CODE 6717-01-P